DEPARTMENT OF LABOR

Employment and Training Administration

[TA-W-38, 400]

Potlatch Corporation, Cloquet, Minnesota; Including Temporary Workers of Olstein Temporary Services Employed at Potlatch Corporation, Cloquet, Minnesota; Amended Certification Regarding Eligibility To Apply for Worker Adjustment Assistance

In accordance with section 223 of the Trade Act of 1974 (19 U.S.C. 2273) the Department of Labor issued a Certification of Eligibility to Apply for Worker Adjustment Assistance on February 27, 2001, applicable to workers of Potlatch Corporation, Cloquet, Minnesota. The notice was published in the Federal Register on April 5, 2001 (66 FR 18117).

At the request of the State agency, the Department reviewed the certification for workers of the subject firm. New information provided by the company shows that some employees of the subject firm were temporary workers from Olsten Temporary Services employed to produce wood products, including paper, oxboard, paper board, tissue and two by fours at the Cloquet, Minnesota location.

Based on these findings, the Department is amending the certification to include temporary workers of Olsten Temporary Services, Duluth, Minnesota employed at Potlatch Corporation, Cloquet, Minnesota.

Accordingly, the Department is amending the certification to reflect this matter.

The amended notice applicable to TA-W-38, 400 is hereby issued as follows:

All workers of Potlatch Corporation, Cloquet, Minnesota, including temporary of Olsten Temporary Services, Duluth, Minnesota, engaged in the production of wood products, including paper, oxboard, paper board, tissue, and two by fours at Potlatch Corporation, Cloquet, Minnesota who became totally or partially separated from employment on or after November 27, 1999 through February 27, 2003 are eligible to apply for adjustment assistance under Section 223 of the Trade Act of 1974.

Signed at Washington, DC this 13th day of April, 2001.
Linda G. Poole,
Certifying Officer, Division of Trade Adjustment Assistance.

[FR Doc. 01-9719 Filed 4-18-01; 8:45 am]

BILLING CODE 4510-30-M